DEPARTMENT OF JUSTICE

Antitrust Division

Notice Pursuant to the National Cooperative Research and Production Act of 1993—TM Forum, A New Jersey Non-Profit Corporation

Notice is hereby given that, on April 19, 2024, pursuant to section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances. Specifically, Itochu Techno Solutions Corporation, Tokyo, JAPAN; Aira Technologies Inc, Saratoga, CA; Binom d.o.o., Zagreb, CROATIA; AllPoints Fibre, Reading, UNITED KINGDOM; GIP Exyr GmbH, Mainz, GERMANY; Mobicom Corporation, Ulaanbaatar City, MONGOLIA; Netradar, Espoo, FINLAND; Inceptionals, Hamilton, NEW ZEALAND; Xeotech Ltd., Watford, UNITED KINGDOM; Case On IT SL (MedUX), Madrid, SPAIN; HAAMI Digital Consultancy, Dubai, UNITED ARAB EMIRATES; Medulla Consulting LLC, Hallandale Beach, FL; Calvi Business Software B.V., Tilburg, THE NETHERLANDS; Telenity Iletisim Sistemleri San. ve Tic. A.S., Yesilköy Sb. Mah. C Blok Sk. C Blok No: 1, TURKEY; Netadmin System i Sverige AB, Linkoping, SWEDEN; Transform & Trust Advisory Ltd, Karkkila, FINLAND; The Borough of Manhattan Community College, New York, NY; Sogetel Inc, Nicolet, CANADA; Nespon, Grapevine, TX; Dell Technologies Inc., Round Rock, TX; Ooredoo Qatar, Doha, QATAR; Innova Solutions Inc, Duluth, GA; and Elaine Haher Distinguished Fellow, Piscataway, NJ, have been added as parties to this venture.

Also, Aesopia, Centurion, SOUTH AFRICA; Akamanta, Fort Lauderdale, FL; ARABIAN NETWORK FOR PROJECTS LTD CO, Riyadh, SAUDI ARABIA; Atos, Bezons Cedex, FRANCE; avataa, Berlin, GERMANY; Beijing BOCO Inter-Telecom Technology Co., Ltd, Beijing, PEOPLE'S REPUBLIC OF CHINA; CACI Ltd, London, UNITED KINGDOM; Carlo Ratti Associati, Torino, ITALY; Centrum Rozwoju Szkol Wyzszych Teb Akademia SP. Z O.O., Poznan, POLAND; Digitral Private Limited, Hyderabad, INDIA; Epam Systems Ltd, Newtown, PA; Expresso Telecom Group, Dakar, SENEGAL; IQ Hive, Auckland, NEW ZEALAND; Istituto di Tecnologie della Comunicazione, Informazione e Percezione (TeCIP) Scuola Superiore Sant'Anna, Pisa, ITALY; MCH Advies & Automatisering B.V., Nieuwegein, THE NETHERLANDS; Meiji University, Tokyo, JAPAN; Metronet, Evansville, IN; Norconsult Telematics, Riyadh, SAUDI ARABIA; ONIS Solutions, San Pedro Garza García, MEXICO; RoboCorp, San Francisco, CA; Salar LLC FZE, Dubai, UNITED ARAB EMIRATES; Scorecard Systems Inc., Stouffville, CANADA; Skyvera, Austin, TX; STC Solutions, Riyadh, SAUDI ARABIA; Tupl, Bellevue, WA; Universidade do Estado de Santa Catarina—UDESC Centro de Ciencias Tecnologicas—CCT, Joinville-SC, BRAZIL; University of Nicosia—Department of Electrical & Computer Engineering, Nicosia, CYPRUS; Upp Corporation Limited, London, UNITED KINGDOM; and WolfTech, Eindhoven, THE NETHERLANDS, have withdrawn as parties to this venture.

Additionally, the following members have changed their names: Inmarsat Global Limited to Viasat, Inc., Carlsbad, CA; B-YOND to Reailize a B-Yond Company, Frisco, TX; Digia Plc to Digia Finland Oy, Basware, FINLAND; Altibox AS to Lyse Tele AS, Stavanger, NORWAY; CSG to CSG Systems, Inc., Greenwood Village, CO; Altron Systems Integration to Altron Digital Business, Gauteng, SOUTH AFRICA; Aria-Networks to AriaNetworks, Bath, UNITED KINGDOM; and GDi LLC to GDi CMT Global LLC, Zagreb, CROATIA.

No other changes have been made to either the membership or planned activity of the group research project. Membership in this group research project remains open, and the Forum intends to file additional written notifications disclosing all changes in membership.

On October 21, 1988, The Forum filed its original notification pursuant to section 6(a) of the Act. The Department of Justice published a notice in the Federal Register pursuant to section 6(b) of the Act on December 8, 1988 (53 FR 49615).

The last notification was filed with the Department on January 17, 2024. A notice was published in the Federal Register pursuant to section 6(b) of the Act on April 16, 2024 (89 FR 26924).

Suzanne Morris,
Deputy Director Civil Enforcement Operations, Antitrust Division.

[FR Doc. 2024-13622 Filed 6-20-24; 8:45 am]

BILLING CODE 4410-11-P